ENVIRONMENTAL PROTECTION AGENCY

[FRL-8957-8]

Proposed CERCLA Administrative Cost Recovery Settlement; Dutch Boy Site, Chicago, IL

AGENCY: Environmental Protection Agency.

ACTION: Notice; request for public comment.

SUMMARY: In accordance with Section 122(i) of the Comprehensive Environmental Response, Compensation, and Liability Act, as amended (CERCLA), 42 U.S.C. 9622(i), notice is hereby given of a proposed administrative settlement for recovery of past response costs concerning the Dutch Boy Site in Chicago, Illinois with the following settling party: NL Industries, Inc. The settlement requires the settling party to reimburse the EPA Hazardous Substance Superfund $165,709.61. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations, which indicate that the settlement is inappropriate, improper, or inadequate. The Agency's response to any comments received will be available for public inspection at the EPA Record Center, Room 714, EPA, 77 West Jackson Boulevard, Chicago, Illinois 60604 and the Chicago Public Library, Pullman Branch, 11001 South Indiana Avenue, Chicago, Illinois 60628.

DATES: Comments must be submitted to EPA on or before November 2, 2009.

ADDRESSES: The proposed settlement is available for public inspection at the EPA Record Center, Room 714, 77 West Jackson Boulevard, Chicago, Illinois 60604 and the Chicago Public Library, Pullman Branch, 11001 South Indiana Avenue, Chicago, Illinois 60628. A copy of the proposed settlement may be obtained from the EPA Record Center, Room 714, EPA, 77 West Jackson Boulevard, Chicago, Illinois 60604 or by calling (312) 353-5821. Comments should reference the Dutch Boy Site located in Chicago, Illinois and should be addressed to Christine Liszewski, EPA, Office of Regional Counsel (C-14J), 77 West Jackson Boulevard, Chicago, Illinois 60604 or liszewski.christine@epa.gov.

FOR FURTHER INFORMATION CONTACT: Christine Liszewski, EPA, Office of Regional Counsel (C-14J) at 77 West Jackson Boulevard, Chicago, IL 60604 or at (312) 886-4670 or via e-mail at liszewski.christine@epa.gov.

Dated: September 3, 2009.
Richard C. Karl,
Director, Superfund Division, Region 5, U.S. Environmental Protection Agency.

[FR Doc. E9-23690 Filed 9-30-09; 8:45 am]

BILLING CODE 6560-50-P